Title 3—

The President

Proclamation 7606 of October 9, 2002

Columbus Day, 2002

By the President of the United States of America

A Proclamation

In August 1492, Christopher Columbus sailed from Palos, Spain, embarking on a westward voyage and intending to establish a new trade route from Spain to the Far East. With three ships and a crew of approximately 100 men, he journeyed across the Atlantic Ocean. Instead of finding a new route to the Indies, Columbus discovered the Bahama Islands. Today, more than five centuries later, Americans continue to celebrate Columbus' bold expedition and recognize his pioneering achievements as an enduring symbol of imagination, courage, and perseverance.

Columbus brought European settlers to North America and helped establish a new era of world exploration during his four journeys to the “New World.” In the years following his voyage of discovery, others such as John Cabot, Vasco da Gama, and Ferdinand Magellan followed Columbus' example to explore and discover new lands, peoples, and cultures.

Today, Columbus' spirit of innovation and discovery flourishes in America as we seek to advance knowledge and ensure prosperity and hope for all people. We challenge our young men and women particularly to reach for all their dreams as the great explorers of the past did.

In commemoration of Columbus' remarkable journey 510 years ago, the Congress, by joint resolution of April 30, 1934, and modified in 1968 (36 U.S.C. 107), as amended, has requested that the President proclaim the second Monday of October of each year as “Columbus Day.”

NOW, THEREFORE, I, GEORGE W. BUSH, President of the United States of America, do hereby proclaim October 14, 2002, as Columbus Day. I call upon the people of the United States to observe this day with appropriate ceremonies and activities. I also direct that the flag of the United States be displayed on all public buildings on the appointed day in honor of Christopher Columbus.

IN WITNESS WHEREOF, I have hereunto set my hand this ninth day of October, in the year of our Lord two thousand two, and of the Independence of the United States of America the two hundred and twenty-seventh.

B

[FR Doc. 02-26373

Filed 10-11-02; 8:45 am]

Billing code 3195-01-P